DEPARTMENT OF HEALTH AND HUMAN SERVICES

National Institutes of Health

National Institute of Biomedical Imaging and Bioengineering Amended; Notice of Meeting

Notice is hereby given a change in the meeting of the National Institute of Biomedical Imaging and Bioengineering Special Emphasis Panel, November 6, 2013, 8:00 a.m. to 5:00 p.m., National Institutes of Health, Democracy II, Suite 951, 6707 Democracy Boulevard, Bethesda, Maryland 20892 which was published in the Federal Register on August 27, 2013, 78FR52938.

The meeting notice is amended to change the title from “K Award Teleconference Review Meeting” to “K Awards Review Meeting.” The meeting time has been changed from 8:00 a.m.-5:00 p.m. to 10:00 a.m.-5:00 p.m. The meeting is closed to the public.

Dated: September 4, 2013.
David Clary,
Program Analyst, Office of Federal Advisory Committee Policy.

[FR Doc. 2013-21944 Filed 9-9-13; 8:45 am]

BILLING CODE 4140-01-P